DEPARTMENT OF TRANSPORTATION

Federal Aviation Administration

14 CFR Part 39

[Docket No. FAA-2005-22157; Directorate Identifier 2005-CE-44-AD; Amendment 39-14464; AD 2006-02-12]

RIN 2120-AA64

Airworthiness Directives; Glaser-Dirks Flugzeugbau GmbH Models DG-100 and DG-400 Sailplanes and DG Flugzeugbau GmbH Models DG-500 Elan Series and DG-500M Sailplanes

AGENCY: Federal Aviation Administration (FAA), DOT.

ACTION: Final rule.

SUMMARY: The FAA adopts a new airworthiness directive (AD) for all Glaser-Dirks Flugzeugbau GmbH Models DG-100 and DG-400 sailplanes and certain DG Flugzeugbau GmbH Models DG-500 Elan Series and DG-500M sailplanes. This AD requires you to modify or replace the complete rudder mount assembly and ensure that the securing washer, castellated nut, and new split pins are installed. This AD results from mandatory continuing airworthiness information (MCAI) issued by the airworthiness authority for Germany. We are issuing this AD to prevent the universal bearing of the lower rudder mounting from slipping out of the bearing support. The universal bearing slipping out could result in the rudder separating from its support. This failure could lead to loss of sailplane control during flight operations.

DATES: This AD becomes effective on March 15, 2006.

As of March 15, 2006, the Director of the Federal Register approved the incorporation by reference of certain publications listed in the regulation.

ADDRESSES: To get the service information identified in this AD, contact DG Flugzeugbau, Postbox 41 20, D-76625 Bruchsal, Federal Republic of Germany; telephone: 011-49 7257-890; facsimile: 011-49 7257-8922.

To view the AD docket, go to the Docket Management Facility; U.S. Department of Transportation, 400 Seventh Street, SW., Nassif Building, Room PL-401, Washington, DC 20590-001 or on the Internet at http://dms.dot.gov. The docket number is FAA-2005-22157; Directorate Identifier 2005-CE-44-AD.

FOR FURTHER INFORMATION CONTACT: Gregory Davison, Aerospace Engineer, FAA, Small Airplane Directorate, ACE-112, Room 301, 901 Locust, Kansas City, Missouri 64106; telephone: 816-329-4130; facsimile: 816-329-4090.

SUPPLEMENTARY INFORMATION:

Discussion

What events have caused this AD? The Luftfahrt-Bundesamt (LBA), which is the airworthiness authority for Germany, recently notified FAA that an unsafe condition may exist on all Glaser-Dirks Flugzeugbau GmbH Models DG-100 and DG-400 sailplanes and certain DG Flugzeugbau GmbH Models DG-500 Elan Series and DG-500M sailplanes. The LBA reports that on a Model DG-100 sailplane the universal bearing of the lower rudder mounting slipped out of the bearing support and the rudder fell out. Further, the LBA reports that this kind of failure may occur on other DG series sailplanes.

What is the potential impact if FAA took no action? The universal bearing slipping out could result in the rudder separating from its support. This failure could lead to loss of sailplane control during flight operations.

Has FAA taken any action to this point? We issued a proposal to amend part 39 of the Federal Aviation Regulations (14 CFR part 39) to include an AD that would apply to all Glaser-Dirks Flugzeugbau GmbH Models DG-100 and DG-400 sailplanes and certain DG Flugzeugbau GmbH Models DG-500 Elan Series and DG-500M sailplanes. This proposal was published in the Federal Register as a notice of proposed rulemaking (NPRM) on October 5, 2005 (70 FR 58110). The NPRM proposed to require you to modify or replace the complete rudder mount assembly and ensure that the securing washer, castellated nut, and new split pins are installed.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 75 sailplanes in the U.S. registry.

What is the cost impact of this AD on owners/operators of the affected sailplanes? We estimate the following costs to do the replacement of the complete rudder mount assembly. We have no way of determining the number of sailplanes that may need this replacement:

Labor cost | Parts cost | Total cost per sailplane
2 work hours × $65 = $130 | $265 | $395

We estimate the following costs to do the modification of the complete rudder mount assembly. We have no way of determining the number of sailplanes that may need this modification:

Labor cost | Parts cost | Total cost per sailplane
3 work hours × $65 = $195 | Not applicable | $195

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-22157; Directorate Identifier 2005-CE-44-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2006-02-12 DG Flugzeugbau GmbH and Glaser-Dirks Flugzeugbau GmbH: Amendment 39-14464; Docket No. FAA-2005-22157; Directorate Identifier 2005-CE-44-AD.

When Does This AD Become Effective?

(a) This AD becomes effective on March 15, 2006.

What Other ADs Are Affected by This Action?

(b) None.

What Sailplanes Are Affected by This AD?

(c) This AD affects the following sailplane models and serial numbers that are certificated in any category:

Model | Serial numbers
DG-100 | All Serial Numbers.
DG-400 | All Serial Numbers.
DG-500 Elan Series | All Serial Numbers Through 5E23.
DG-500M | All Serial Numbers Through 5E23.

What Is the Unsafe Condition Presented in This AD?

(d) This AD is the result of mandatory continuing airworthiness information (MCAI) issued by the airworthiness authority for Germany. The actions specified in this AD are intended to prevent the universal bearing of the lower rudder mounting from slipping out of the bearing support. The universal bearing slipping out could result in the rudder separating from its support. This failure could lead to loss of sailplane control during flight operations.

(e) To address this problem, you must do the following:

Actions | Compliance | Procedures
(1) Modify or replace the complete rudder mounting assembly | Within the next 25 hours time-in-service (TIS) after March 15, 2006 (the effective date of this AD), unless already done | Follow DG Flugzeugbau GmbH Technical Note No. 301/23 issue 2, 323/14 issue 2, 348/18 issue 2, 359/21 issue 2, 370/9 issue 2, 826/44 issue 2, 843/21 issue 2, 866/10 issue 2, dated June 11, 2004, amended July 7, 2004.
(2) Ensure that the securing washer, castellated nut, and split pins are installed as specified by the DG Flugzeugbau GmbH Technical Note No. 301/23 issue 2, 323/14 issue 2, 348/18 issue 2, 359/21 issue 2, 370/9 issue 2, 826/44 issue 2, 370/9 issue, 2, 826/44 issue 2, 843/21 issue 2, 866/10 issue 2, dated June 11, 2004, amended July 7, 2004 | Before further flight after the modification or replacement of the mounting assembly required by paragraph (e)(1) of this AD | Follow DG Flugzeugbau GmbH Technical Note No. 301/23 issue 2, 323/14 issue 2, 348/18 issue 2, 359/21 issue 2, 370/9 issue 2, 826/44 issue 2, 843/21 issue 2, 866/10 issue 2, dated June 11, 2004, amended July 7, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Aerospace Engineer, FAA, Small Airplane Directorate, ACE-112, Room 301, 901 Locust, Kansas City, Missouri 64106; telephone: 816-329-4130; facsimile: 816-329-4090.

Is There Other Information That Relates to This Subject?

(g) German AD Number D-2004-348R1, dated September 16, 2004, also addresses the subject of this AD.

Does This AD Incorporate Any Material by Reference?

(h) You must do the actions required by this AD following the instructions in DG Flugzeugbau GmbH Technical Note No. 301/23 issue 2, 323/14 issue 2, 348/18 issue 2, 359/21 issue 2, 370/9 issue 2, 826/44 issue 2, 843/21 issue 2, 866/10 issue 2, dated June 11, 2004, amended July 7, 2004 (LBA-approved). The Director of the Federal Register approved the incorporation by reference of this service bulletin in accordance with 5 U.S.C. 552(a) and 1 CFR part 51. To get a copy of this service information, contact DG Flugzeugbau, Postbox 41 20, D-76625 Bruchsal, Federal Republic of Germany; telephone: 011-49 7257-890; facsimile: 011-49 7257-8922. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-22157; Directorate Identifier 2005-CE-44-AD.

Issued in Kansas City, Missouri, on January 20, 2006.
John Colomy,
Acting Manager, Small Airplane Directorate, Aircraft Certification Service.

[FR Doc. 06-735 Filed 2-1-06; 8:45 am]

BILLING CODE 4910-13-P